DEPARTMENT OF HEALTH AND HUMAN SERVICES

Administration for Children and Families

[Office of Management and Budget #0970-0036]

Proposed Information Collection Activity; ORR-6 Performance Report

AGENCY: Office of Refugee Resettlement, Administration for Children and Families, U.S. Department of Health and Human Services.

ACTION: Request for Public Comments.

SUMMARY: The Office of Refugee Resettlement (ORR), Administration for Children and Families (ACF), U.S. Department of Health and Human Services, seeks Office of Management and Budget (OMB) approval for a 3-year extension to the existing data collection for the ORR-6 Performance Report forms (OMB #0970-0036, expiration December 31, 2025) with minor changes to the instructions. The minor proposed changes remove parts of the instructions that are no longer relevant due to expired program funding and clarify existing instructions.

DATES: Comments due February 3, 2026.

ADDRESSES: In compliance with the requirements of the Paperwork Reduction Act (PRA) of 1995, ACF is soliciting public comment on the specific aspects of the information collection described above. You can obtain copies of the proposed collection of information and submit comments by emailing infocollection@acf.hhs.gov. Identify all requests by the title of the information collection.

SUPPLEMENTARY INFORMATION:

Description: The ORR-6 is designed to satisfy the statutory requirements of the Immigration and Nationality Act (INA). Specifically, section 412(a)(7) of INA (8 U.S.C. 1522(a)(7)) requires that the Director monitor refugee resettlement assistance, including collecting data on the services provided and the results achieved. Data elements include output data that measure services provided by programs for school-aged youth, elderly populations, and for overall health promotion. The data collected will inform evidence-based policymaking and program design. The ORR-6 is an OMB-approved form under PRA. ORR proposes to extend OMB approval for the ORR-6 with minor changes to the instructions. ORR staff and ORR funding recipients will benefit from accurate and clear instructions that support current reporting requirements. ACF estimates the proposed changes will not increase response burden.

Respondents: States, Replacement Designees, and the District of Columbia.

Annual Burden Estimates
Instrument | Total number of respondents | Annual number of responses per respondent | Average burden hours per response | Annual burden hours
ORR-6 Performance Report | 70 | 2 | 15 | 2,100

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 8 U.S.C.1522(a)(7).

Mary C. Jones,
ACF/OPRE Certifying Officer.

[FR Doc. 2025-22021 Filed 12-4-25; 8:45 am]

BILLING CODE 4184-89-P